Proclamation 10591 of May 31, 2023

National Caribbean-American Heritage Month, 2023

By the President of the United States of America

A Proclamation

During Caribbean-American Heritage Month, we celebrate the achievements and dreams of the millions of people of Caribbean origin now living in the United States while honoring the shared history of joy and perseverance that has united and enriched life across our region for centuries.

There is no single Caribbean American identity. The mix of cultures, languages, and religions alive across the United States and the islands reflects the diversity of spirit that defines the American story. Meanwhile, our countries are bound by common values and a shared history—overcoming the yoke of colonialism, confronting the original sin of slavery, and charting new opportunities across borders and generations.

Since our founding, Caribbean Americans from Alexander Hamilton to Colin Powell have contributed to the United States in the most profound ways. Today, pathbreakers like Supreme Court Justice Sonia Sotomayor continue advancing our work toward a more perfect Union. I am especially proud of the extraordinary leaders of Caribbean heritage now serving in my Administration—from Vice President Kamala Harris to Secretary of Education Miguel Cardona, Secretary of Homeland Security Alejandro Mayorkas, and White House Press Secretary Karine Jean-Pierre. And I take equal pride in the generations of Caribbean Americans who literally built this country—bringing tremendous hope and energy to bear as small business owners, teachers, health care workers, military service members, union organizers, community leaders, and so much more.

For too long, too many have faced systemic barriers to success. As President, I have issued two separate Executive Orders to change that, pushing to advance racial justice across every policy that my Administration pursues. As we have passed historic laws to rebuild our Nation's infrastructure, lower prescription drug costs, create a clean energy economy, and transform American manufacturing to once again lead the world, we have done so with an eye for equity, rebuilding our economy from the middle out and bottom up. As a result, we have created 12.7 million jobs—bringing Black and Latino unemployment to record lows—and we have helped millions to start and grow their own businesses. At the same time, we are using all the tools we have to make our Nation's broken immigration system as orderly, safe, and humane as possible, sending support to the border while expanding lawful pathways for Cubans, Haitians, Nicaraguans, and Venezuelans—among others—to come to the United States without taking the dangerous journey to our southern border. What we really need is for the Congress to finally pass comprehensive immigration reform, including a pathway to citizenship for Dreamers, farm and essential workers, and temporary status holders, many of whom are from the Caribbean. I will not quit pressing the Congress to act.

Beyond our borders, we are working with our Caribbean partners to expand opportunity and keep the region safe so more of our neighbors can build lives at home. We partnered with the Caribbean Community (CARICOM) in November 2022 to launch the Crime Gun Intelligence Unit and disrupt firearms trafficking in the region. We are also working to improve access to development financing and advance clean energy projects across the Caribbean through the United States-Caribbean Partnership to Address the Climate Crisis 2030.

A central promise of this country is the idea that everyone is created equal and deserves to be treated equally throughout their lives. It is a cornerstone of our common heritage in this hemisphere, even as we keep striving to finally make that vision real. Caribbean-American Heritage Month is a chance to celebrate the rich diversity that covenant has brought us and to renew its promise for future generations of Caribbean Americans and for us all.

NOW, THEREFORE, I, JOSEPH R. BIDEN JR., President of the United States of America, by virtue of the authority vested in me by the Constitution and the laws of the United States, do hereby proclaim June 2023 as National Caribbean-American Heritage Month. I encourage all Americans to join in celebrating the history, culture, and achievements of Caribbean Americans with appropriate ceremonies and activities.

IN WITNESS WHEREOF, I have hereunto set my hand this thirty-first day of May, in the year of our Lord two thousand twenty-three, and of the Independence of the United States of America the two hundred and forty-seventh.

[FR Doc. 2023-12058

Filed 6-2-23; 8:45 am]

Billing code 3395-F3-P